DEPARTMENT OF TRANSPORTATION

Federal Aviation Administration

14 CFR Part 39

[Docket No. 2003-NM-228-AD]

RIN 2120-AA64

Airworthiness Directives; BAE Systems (Operations) Limited (Jetstream) Model 4101 Airplanes

AGENCY: Federal Aviation Administration, DOT.

ACTION: Notice of proposed rulemaking (NPRM).

SUMMARY: This document proposes the adoption of a new airworthiness directive (AD) that is applicable to all BAE Systems (Operations) Limited (Jetstream) Model 4101 airplanes. This proposal would require a one-time inspection of the ailerons to determine if certain actions were accomplished previously, and related investigative and corrective actions if necessary. This action is necessary to prevent damage to the rear spar rib-to-rib attachment cleats and the aft rib elements of the fixed tabs of the ailerons. Such damage could lead to reduced structural integrity and consequent failure of the ailerons, which could result in reduced controllability of the airplane. This action is intended to address the identified unsafe condition.

DATES: Comments must be received by June 7, 2004.

ADDRESSES: Submit comments in triplicate to the Federal Aviation Administration (FAA), Transport Airplane Directorate, ANM-114, Attention: Rules Docket No. 2003-NM-228-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-228-AD” in the subject line and need not be submitted in triplicate. Comments sent via the Internet as attached electronic files must be formatted in Microsoft Word 97 for Windows or ASCII text.

The service information referenced in the proposed rule may be obtained from British Aerospace Regional Aircraft American Support, 13850 Mclearen Road, Herndon, Virginia 20171. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-228-AD.” The postcard will be date stamped and returned to the commenter.

Availability of NPRMs

Any person may obtain a copy of this NPRM by submitting a request to the FAA, Transport Airplane Directorate, ANM-114, Attention: Rules Docket No. 2003-NM-228-AD, 1601 Lind Avenue, SW., Renton, Washington 98055-4056.

Discussion

The Civil Aviation Authority (CAA), which is the airworthiness authority for the United Kingdom, notified the FAA that an unsafe condition may exist on all BAE Systems (Operations) Limited (Jetstream) Model 4101 airplanes. The CAA advises that during a scheduled fatigue inspection of the ailerons, an operator found damage to the rear spar rib-to-rib attachment cleats, and the aft rib elements of the fixed tabs. Investigation revealed that the damage was caused by accomplishment of an early production change to the ailerons during manufacture. Such damage could lead to reduced structural integrity and consequent failure of the ailerons, which could result in reduced controllability of the airplane.

Explanation of Relevant Service Information

BAE Systems (Operations) Limited has issued Service Bulletin J41-57-028, dated June 27, 2003, which is written in two parts. Part 1 of the service bulletin describes the following procedures:

• Reviewing the airplane maintenance records to determine if Supplemental Structural Inspection 57-50-011 (included in the airplane maintenance manual), or the actions specified in BAE Systems (Operations) Limited Service Bulletin J41-51-001, dated August 7, 2002, were previously accomplished.

• Inspecting the ailerons by looking at the rib positions to determine if an early production change was installed.

• For airplanes on which the early production change was installed, doing a radiographic inspection for signs of damage, including distortion of the rear spar rib-to-rib attachment cleats in the ailerons, and the rib elements and cleats in the fixed tabs.

Part 2 of the service bulletin describes related investigative and corrective actions for airplanes with signs of damage, and/or with the early production change installed. These actions include:

• Removing the ailerons from the airplane.

• Inspecting the ribs and cleats for damage or incorrect installation, and reporting any adverse findings to BAE before repairing the airplane.

• Repairing/replacing damaged areas and parts per Revision C of repair drawing 141R0212, the structural repair manual, and the maintenance manual.

• Reinstalling the ailerons on the airplane.

• Doing a functional check.

Accomplishment of the actions specified in the service information is intended to adequately address the identified unsafe condition. The CAA classified this service bulletin as mandatory and issued British airworthiness directive 006-06-2003 in order to assure the continued airworthiness of these airplanes in the United Kingdom.

FAA's Conclusions

This airplane model is manufactured in the United Kingdom and is type certificated for operation in the United States under the provisions of section 21.29 of the Federal Aviation Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

Explanation of Requirements of Proposed AD

Since an unsafe condition has been identified that is likely to exist or develop on other airplanes of the same type design registered in the United States, the proposed AD would require accomplishment of the actions specified in the service bulletin described previously, except as discussed below.

Differences Between the Service Information and Proposed AD

Operators should note that, although the service bulletin describes procedures for submitting certain reports to the manufacturer, this proposed AD would not require such reporting.

Although the service bulletin specifies that operators should contact the manufacturer for disposition of certain repair conditions, this proposed AD would require operators to repair those conditions per the service bulletin, or a method approved by either the FAA or the CAA (or its delegated agent). In light of the type of repair that would be required to address the unsafe condition, and consistent with existing bilateral airworthiness agreements, we have determined that a repair approved by either the FAA or the CAA (or its delegated agent) would be acceptable for compliance with this proposed AD.

Cost Impact

We estimate that 57 airplanes of U.S. registry would be affected by this proposed AD, that it would take approximately 2 work hours per airplane to accomplish the proposed actions, and that the average labor rate is $65 per work hour. Based on these figures, the cost impact of the proposed AD on U.S. operators is estimated to be $7,410, or $130 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

BAE Systems (Operations) Limited (Formerly British Aerospace Regional Aircraft): Docket 2003-NM-228-AD.

Applicability: All Model Jetstream 4101 airplanes, certificated in any category.

Compliance: Required as indicated, unless accomplished previously.

To prevent failure of the ailerons, and consequent reduced controllability of the airplane, accomplish the following:

One-Time Inspection

(a) Within 6 months or 600 flight cycles after the effective date of this AD, whichever is earlier: Do a one-time general visual inspection of the ailerons to determine if an early production change to the ailerons was installed, by doing all the actions per Part 1, paragraph (2) of the Accomplishment Instructions of BAE (Operations) Limited Service Bulletin J41-57-028, dated June 27, 2003. Instead of a general visual inspection of the ailerons, a review of airplane maintenance records is acceptable, by doing all the actions per Part 1, paragraph (1) of the Accomplishment Instructions of the service bulletin, if it can be positively determined from that review that one or both of the actions specified in Part 1, paragraph (1) of the Accomplishment Instructions of the service bulletin have been done.

(1) If the production change was not installed, or one or both of the actions specified in Part 1, paragraph (1) of the Accomplishment Instructions of the service bulletin were done, no further action is required by this AD.

(2) If the production change was installed: Do a radiographic inspection for damage by doing all the actions per Part 1, paragraph (3) of the Accomplishment Instructions of the service bulletin. If no damage is found, no further action is required by this AD. If any damage is found, before further flight, do the corrective actions required by paragraph (b) of this AD.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Corrective Actions

(b) If any damage is found during the inspection required by paragraph (a)(2) of this AD: Before further flight, do all of the applicable corrective actions per Part 2 of the Accomplishment Instructions of BAE Systems (Operations) Limited Service Bulletin J41-57-028, dated June 27, 2003. Where the service bulletin specifies to contact the manufacturer for repair information, do the repair per a method approved by either the Manager, International Branch, ANM-116, Transport Airplane Directorate, FAA; or the Civil Aviation Authority (or its delegated agent).

Submission of Information Not Required

(c) Although the service bulletin referenced in this AD specifies to submit certain information to the manufacturer, this AD does not include such a requirement.

Alternative Methods of Compliance

(d) In accordance with 14 CFR 39.19, the Manager, International Branch, ANM-116, is authorized to approve alternative methods of compliance for this AD.

Note 2: The subject of this AD is addressed in British airworthiness directive 006-06-2003.

Issued in Renton, Washington, on April 30, 2004.
Kevin M. Mullin,
Acting Manager, Transport Airplane Directorate, Aircraft Certification Service.

[FR Doc. 04-10432 Filed 5-6-04; 8:45 am]

BILLING CODE 4910-13-P